DEPARTMENT OF EDUCATION

Office of Special Education and Rehabilitative Services; Overview Information; Personnel Preparation To Improve Services and Results for Children With Disabilities—Combined Priority for Personnel Preparation; Notice Inviting Applications for New Awards for Fiscal Year (FY) 2005

Catalog of Federal Domestic Assistance (CFDA) Number: 84.325K.

Note: This notice includes one priority with five focus areas, and funding information for each focus area of the competition.

Dates: Applications Available: March 28, 2005.

Deadline for Transmittal of Applications: May 9, 2005.

Deadline for Intergovernmental Review: July 8, 2005.

Eligible Applicants: Institutions of higher education.

Estimated Available Funds: $15,000,000.

For funding information regarding each of the specific focus areas of the priority, see the chart in the Award Information section of this notice.

Estimated Range of Awards: See chart.

Estimated Average Size of Awards: See chart.

Maximum Awards: See chart.

Estimated Number of Awards: See chart.

Project Period: Up to 48 months.

Full Text of Announcement

I. Funding Opportunity Description

Purpose of Program: The purposes of this program are to (1) help address State-identified needs for highly qualified personnel—in special education, related services, early intervention, and regular education—to work with children with disabilities; and (2) ensure that those personnel have the skills and knowledge—derived from practices that have been determined through research and experience to be successful—that are needed to serve those children.

Priority: In this competition, we are establishing one absolute priority (with five focus areas), a competitive preference priority within one of these five focus areas, and two separate competitive preference priorities. In accordance with 34 CFR 75.105(b)(2)(v), these priorities are from allowable activities specified in the statute (see section 662(d) and 681(d) of the Individuals with Disabilities Education Act (IDEA)).

Absolute Priority: For FY 2005 this priority is, except as otherwise specified, an absolute priority. Under 34 CFR 75.105(c)(3) we consider only applications that meet this absolute priority.

This priority is:

Combined Priority for Personnel Preparation

Background: State agencies, university training programs, local schools, and other community-based entities confirm the importance and difficulty of improving training programs for personnel to serve children with disabilities or infants and toddlers with disabilities.

The national demand for fully credentialed special education, related services and early intervention personnel to serve children with disabilities also exceeds available supply. Thus, Federal support is required to improve both the quality and supply of personnel who serve children with disabilities.

Priority: The purpose of this priority is to increase the number and quality of personnel who are fully credentialed to serve children with disabilities, especially in areas of chronic shortage, by supporting projects that prepare special education, early intervention, and related services personnel at the associate, baccalaureate, master's and specialist levels. In order to be eligible under this priority, programs must provide training and support for students to complete, within the term of the project, a degree and/or State certification, professional license, or State endorsement in early intervention, special education or related services. Programs preparing students to be special education paraprofessionals or related services assistants are also eligible under this priority. The Secretary is particularly interested in programs that prepare special educators who provide instruction in core academic areas to children with disabilities to be highly qualified under section 602(10) of IDEA, in accordance with State requirements. The Secretary is also particularly interested in programs that provide enhanced support for beginning special educators (see section 662(b)(3) of IDEA).

Absolute Priority Requirements: Projects funded under this absolute priority must—

(a) Demonstrate, in the narrative section of the application under “Quality of Project Services”, how—

(1) Research that has been shown to be effective in improving outcomes for children with disabilities is incorporated into training requirements and reflected in required coursework for the proposed training program and include relevant research citations;

(2) The program is designed to offer integrated training and practice opportunities that will enhance the skills of appropriate personnel who share responsibility for providing effective services to children with disabilities;

(3) The program prepares personnel to address the specialized needs of children with disabilities from diverse cultural and language backgrounds, including limited English proficient children with disabilities, by—

(i) Identifying the competencies needed for personnel to work effectively with culturally and linguistically diverse populations; and

(ii) Infusing those competencies into early intervention, special education, and related services training programs;

(4) The program is designed to develop or improve and implement mutually beneficial partnerships with schools and other service settings to promote continuous improvement in preparation programs and in service delivery;

(5) The program includes field-based training opportunities for students in diverse settings, such as schools and settings in high-poverty communities, in rural areas and in urban areas;

(6) The training program equips scholars with the knowledge and skills necessary to effectively assist children in achieving State learning standards; and

(7) Student support systems (including tutors, mentors, and other innovative practices) are provided to enhance student retention and success in the program;

(b) Include in the application narrative under “Quality of Project Evaluation”, a clear, effective plan for evaluating the extent to which graduates of the training program have the knowledge and skills necessary to provide research-based instruction and services that result in improved outcomes for children with disabilities;

(c) Communicate student evaluation results to the Office of Special Education Programs (OSEP) in required annual performance reports for continuation funding and the project's final performance report;

(d) Budget for a two-day Project Director's meeting in Washington, DC, during each year of the project;

(e) If the project maintains a Web site, include relevant information and documents in a form that meets a government or industry-recognized standard for accessibility;

(f) Include, in the application Appendix, all course syllabi for the proposed training program. Course syllabi must clearly reflect the incorporation of research-based curriculum and pedagogy as required under paragraph (a) of this section of the priority;

(g) Submit annual data on each scholar who receives grant support. Projects funded under this priority must submit this scholar data electronically within 60 days after the end of each grant budget year. Applicants are encouraged to visit the Personnel Prep Data (PPD) Web site at www.osepppd.org for further information. This data collection is in addition to and does not supplant the annual grant performance report required of each grantee for continuation funding (34 CFR 75.590); and

(h) Assure that at least 60 percent of the total requested budget be used for student training stipends.

Statutory and Other Requirements: To be considered for an award under this priority, applicants must also satisfy the following requirements authorized under sections 662(e)(2) and (3), section 662(h)(1) and section 682(a)(1)(A) of IDEA:

(a) Demonstrate that the activities described in the application will address needs identified by the State or States the applicant proposes to serve and that the State or States intend to accept successful completion of the proposed personnel preparation program as meeting State personnel standards or other requirements in State law or regulation for serving children with disabilities or serving infants and toddlers with disabilities (see sections 662(e)(2)(A) and 662(e)(3) of IDEA). Letters from one or more States that the project proposes to serve could be one method for addressing this requirement;

(b) Demonstrate that the applicant and one or more State educational agencies—or, if appropriate, State appointed lead agencies responsible for providing early intervention services—or local educational agencies will cooperate in carrying out and monitoring the proposed project (see section 662(e)(2)(B) of IDEA);

(c) Involve individuals with disabilities or parents of individuals with disabilities ages birth through 26 in planning, implementing, and evaluating the project (see section 682(a)(1)(A) of IDEA); and

(d) Provide an assurance that the applicant will ensure that individuals who receive financial assistance under the proposed project agree to meet the service obligation requirements, or repay all or part of the amount of the scholarship, in accordance with section 662(h)(1) of IDEA and the Additional Requirements section of this notice. Applicants must describe how they will inform scholarship recipients of this service obligation requirement.

Focus Areas

Within this absolute priority, the Secretary intends to support projects under the following five (5) focus areas: (a) Training of Early Intervention and Early Childhood Personnel, (b) Training of Low-Incidence Personnel, (c) Training of High-Incidence Personnel, (d) Training Programs for Related Services, Speech/Language, and Adapted Physical Education Personnel, and (e) Training Programs in Minority Institutions. Provided that there are a sufficient number of high quality applications, a total of up to 5 of the awards made in focus areas (b), (c) and (e) combined will be to applicants training special education teachers that demonstrate how grant supported scholars who complete the proposed program will meet State certification standards in special education and will be highly qualified under section 602(10) of IDEA.

Provided that there are a sufficient number of high quality applications, a total of up to 5 of the awards made in focus areas (b), (c) and (e) combined will be to applicants training beginning special education teachers that demonstrate how the program is designed to carry out the activities described in one or both paragraphs (A) or (B) in section 662(b)(3) of IDEA.

Note: Applicants must identify the focus area (i.e., (a), (b), (c), (d), or (e)) under which they are applying as part of the project title on the application cover sheet and may not submit the same proposal under more than one focus area. In addition, applicants applying under focus areas (b), (c) or (e) that are addressing either of the categories of intended awards under the preceding paragraphs (i.e., highly qualified and/or beginning special educator training) must also identify the intended award area at the beginning of the Application Abstract.

Focus Area a: Training of Early Intervention and Early Childhood Personnel. For the purpose of this focus area, early intervention personnel are those who are trained to provide services to infants and toddlers with disabilities and early childhood personnel are those who are trained to provide services to children with disabilities ages 3 through 5. In States where certification in early intervention (EI) is combined with certification in early childhood (EC), applicants may propose a combined EI/EC training project under this focus area. Projects training related services, speech/language and/or adapted physical education personnel are not eligible under this focus area (see Focus Area d).

Focus Area b: Training of Low-Incidence Personnel. For the purpose of this focus area, low-incidence personnel are special education personnel, including paraprofessionals, trained to serve school-age children with low-incidence disabilities including visual impairments, hearing impairments, simultaneous vision and hearing impairments, significant cognitive impairments (severe mental retardation), orthopedic impairments, autism, and/or traumatic brain injury. Programs preparing special education personnel to provide services to visually impaired or blind children that can be appropriately provided in Braille, must prepare those individuals to provide those services in Braille. Projects training related services, speech/language and/or adapted physical education personnel are not eligible under this focus area (see Focus Area d). Projects training special education pre-school personnel are eligible under Focus Area a.

Focus Area c: Training of High-Incidence Personnel. For the purpose of this focus area, high-incidence personnel are special education personnel, including paraprofessionals, trained to serve school-age children with mild and/or moderate mental retardation, emotional disturbance, specific learning disability, other health impairment (including children with Attention Deficit Hyperactive Disorder) and/or children ages 5 through 9 with developmental delay. Projects training related services, speech/language and/or adapted physical education personnel are not eligible under this focus area (see Focus Area d). Projects training special education pre-school personnel are eligible under Focus Area a.

Focus Area d: Training Programs for Related Services, Speech/Language, and Adapted Physical Education Personnel. Programs training related services, speech/language or adapted physical education personnel to serve infants, toddlers, children and youth with high- and/or low-incidence disabilities are eligible within this focus area. For the purpose of this focus area, related services include, but are not limited to, psychological services, physical therapy, occupational therapy, therapeutic recreation, social work services, counseling services, audiology services (including personnel trained at the Doctor of Audiology level), and or speech/language services. Training programs in States where personnel trained to serve children with speech/language impairments are considered to be special educators are eligible under this focus area. Training programs preparing related services assistants are also eligible under this focus area.

Focus Area e: Training Programs in Minority Institutions. Programs in minority institutions that are training special education, including adapted physical education, and/or related services personnel to serve infants, toddlers, children and youth with high- and/or low-incidence disabilities are eligible within this focus area. Minority institutions include institutions with a minority student enrollment of 25 percent or more, which may include Historically Black Colleges and Universities and Tribal Colleges. Within this focus area and for the FY 2005 competition, projects that are recommended for funding and that have not received support under the IDEA Personnel Preparation Program in FY 2003 or FY 2004 will receive 10 competitive preference points.

Under Focus Area e, a project may budget for less than the required percentage (60 percent) for student training support if they can provide sufficient justification for any designation less than 60 percent for student scholarships. Sufficient justification for proposing less than 60 percent of the budget for student support would include support for activities such as program development, expansion of a program, or the addition of a new area of emphasis. Some examples include the following:

• A project that is starting a new program may request up to a year for program development and capacity building. In the initial project year, no student support would be required. Instead, a project could hire a new faculty member or a consultant to assist in program development.

• A project that is proposing to build capacity may hire a field supervisor so that additional students can be trained.

• A project that is expanding or adding a new emphasis area to the program may initially need additional faculty or other resources such as expert consultants, additional training supplies, or equipment that would enhance the program.

Projects that are funded to develop, expand, or to add a new area of emphasis to special education or related services programs must provide information on how these new areas will be maintained once Federal funding ends.

Note: The statute does not authorize the selection of trainees on the basis of race, ethnicity, gender, or disability status.

Competitive Preference Priorities: For FY 2005, these priorities are competitive preference priorities. Under 34 CFR 75.105(c)(2)(i) we award up to an additional five points for each priority depending on how well the application meets the priority.

These competitive preference priorities are:

Competitive Preference Priority 1: We give competitive preference to institutions of higher education that are educating regular education personnel to meet the needs of children with disabilities in integrated settings and educating special education personnel to work in collaboration with regular educators in integrated settings.

Note: Grant-supported scholarships should not be provided to students preparing to become regular education personnel as these students will not be able to meet the service obligation requirements under section 662(h) of IDEA.

Competitive Preference Priority 2: We give competitive preference to institutions of higher education based on the extent to which they successfully recruit individuals with disabilities and individuals from groups that are underrepresented in the profession for which they are preparing individuals. In the case of a new project, the applicant must submit a plan with strategies on how it will meet this competitive preference.

Note: The statute does not authorize the selection of trainees on the basis of race, ethnicity, gender, or disability status.

Additional Requirements: Specific provisions contained in the regulations for this program, which are in 34 CFR part 304, no longer apply because they have been superseded by requirements in IDEA, as recently reauthorized and amended by the Individuals with Disabilities Education Improvement Act of 2004. Accordingly, for purposes of this competition, the following requirements will apply in lieu of the regulations in 34 CFR part 304.

Note: The Secretary will be issuing a notice of proposed rulemaking to amend part 304 to implement these recent changes in IDEA. The Secretary does not expect the final regulations to be substantially different from the requirements in this Additional Requirements section. However, the competition announced in this notice will be governed solely by the requirements in this notice.

Sec. A. Purpose.

Individuals who receive scholarship assistance from projects funded under the Special Education—Personnel Development to Improve Services and Results for Children with Disabilities program are required to complete a service obligation, or repay all or part of the costs of such assistance, in accordance with section 662(h) of IDEA and the requirements set forth in this Additional Requirements section of this notice.

Sec. B. Definitions that apply to this program.

The following definitions apply to this program:

Academic year means—

(1) A full-time course of study—

(i) Taken for a period totaling at least nine months; or

(ii) Taken for the equivalent of at least two semesters, two trimesters, or three quarters; or

(2) For a part-time student, the accumulation of periods of part-time courses of study that is equivalent to an “academic year” under paragraph 1 of this definition.

Early intervention services means early intervention services as defined in section 632(4) of IDEA.

Full-time, for purposes of determining whether an individual is employed full-time in accordance with Sec. F (All references to “Sec.” refer to sections in these Additional Requirements), means a full-time position as defined by the individual's employer or by the agencies served by the individual.

Related services means related services as defined in section 602(26) of IDEA.

Repayment means monetary reimbursement of scholarship assistance in lieu of completion of a service obligation.

Scholar means an individual who is pursuing a degree, license, endorsement, or certification related to special education, related services, or early intervention services and who receives scholarship assistance under section 662 of IDEA.

Scholarship means financial assistance to a scholar for training under the program and includes all disbursements or credits for tuition, fees, student stipends, and books, and travel in conjunction with training assignments.

Service obligation means a scholar's employment obligation, as described in section 662(h) of IDEA and Sec. F.

Special education means special education as defined in section 602(29) of IDEA.

Sec. C. Allowable costs.

In addition to the allowable costs established in EDGAR in 34 CFR 75.530 through 75.562, the following items are allowable expenditures by projects funded under the program:

(a) Tuition and fees.

(b) Student stipends and books.

(c) Travel in conjunction with training assignments.

Sec. D. Requirements for grantees in disbursing scholarships.

Before disbursement of scholarship assistance to an individual, a grantee must—

(a) Ensure that the scholar—

(1) Is a citizen or national of the United States;

(2) Is a permanent resident of—

(i) Puerto Rico, the United States Virgin Islands, Guam, American Samoa, or the Commonwealth of the Northern Mariana Islands; or

(ii) The Republic of the Marshall Islands, the Federated States of Micronesia, or the Republic of Palau (during the period in which these entities are eligible to receive an award under the program); or

(3) Provides evidence from the U.S. Department of Homeland Security that the individual is—

(i) A lawful permanent resident of the United States; or

(ii) In the United States for other than a temporary purpose with the intention of becoming a citizen or permanent resident.

(b) Limit scholarship assistance to the amount by which the individual's cost of attendance at the institution exceeds the amount of grant assistance the scholar is to receive for the same academic year under Title IV of the Higher Education Act; and

(c) Obtain a Certification of Eligibility for Federal Assistance from each scholar, as prescribed in 34 CFR 75.60, 75.61, and 75.62.

Sec. E. Assurances that must be provided by a grantee.

Before receiving an award, a grantee that intends to grant scholarships under the program must include in its application an assurance that the following requirements will be satisfied:

(a) Requirement for agreement. Prior to granting a scholarship, the grantee will enter into a written agreement with each scholar that contains the terms and conditions required by Sec. F, explains the Secretary's authority to grant deferrals and exceptions to the service obligation pursuant to Sec. G, and provides the current Department address.

(b) Standards for satisfactory progress. The grantee must establish, notify students of, and apply reasonable standards for measuring whether a scholar is maintaining satisfactory progress in the scholar's course of study.

(c) Exit certification. The grantee must establish policies and procedures for receiving written certification from scholars at the time of exit from the program that identifies—

(1) The number of years the scholar needs to work to satisfy the work requirements in Sec. F(d).

(2) The total amount of scholarship assistance received subject to Sec. F.

(3) The time period, consistent with Sec. F(f)(1), during which the scholar must satisfy the work requirements.

(4) As applicable, all other obligations of the scholar under Sec. F.

(d) Information. The grantee must provide the Secretary information, including records maintained under paragraph (c) of this Sec. E, that is necessary to carry out the Secretary's functions under this Additional Requirements section.

(e) Notification to the Secretary. If the grantee is aware that the scholar has chosen not to fulfill or will be unable to fulfill the obligation under Sec. F(d), the grantee must notify the Secretary when the scholar exits the program.

Sec. F. Requirements for scholars.

Individuals who receive scholarship assistance from grantees funded under this competition must:

(a) Training. Receive the training at the educational institution or agency designated in the scholarship;

(b) Educational allowances. Not accept payment of educational allowances from any other entity if that allowance conflicts with the scholar's obligation under these Additional Requirements;

(c) Satisfactory progress. Maintain satisfactory progress toward the degree, certificate, endorsement, or license as determined by the grantee;

(d) Service obligation. Upon exiting the training program under paragraph (a) of this Sec. F, subsequently maintain employment—

(1) On a full-time or full-time equivalent basis; and

(2) For a period of at least two years for every academic year for which assistance was received.

(e) Eligible employment. In order to meet the requirements of paragraph (d) of this Sec. F for any project funded under section 662 of IDEA, be employed in a position in which—

(1) A majority of the persons to whom the individual provides services are receiving special education, related services, or early intervention services from the individual;

(2) The individual spends a majority of his or her time providing special education or related services to children with disabilities or early intervention services to infants and toddlers with disabilities;

(3) If the position is supervisory, including principals, the individual spends a majority of his or her time employed in a position performing work related to the individual's preparation under section 662 of IDEA by providing one or both of the following:

(i) Special education or related services to children with disabilities or early intervention services to infants and toddlers with disabilities; and

(ii) Supervision to others on issues directly related to special education or related services for children with disabilities or early intervention services for infants and toddlers;

(4) If the position is postsecondary faculty, the individual spends a majority of his or her time performing work related to the individual's preparation under section 662 of IDEA by preparing special education teachers and related services personnel to provide services to improve results for children with disabilities, including early intervention, educational, and transitional services; or

(5) If the position is in research, the individual spends a majority of his or her time performing research related to the individual's preparation under section 662 of IDEA that focuses on improving results for children with disabilities, including early intervention, educational, and transitional services.

(f) Time period. Meet the service obligation under paragraph (d) of this Sec. F as follows:

(1) Complete the service obligation within the period ending not more than the sum of the number of years required in paragraph (d)(2) of this Sec. F, as appropriate, plus three additional years, from the date the recipient completes the training for which the scholarship assistance was awarded.

(2) Obtain employment subsequent to the completion of one academic year of the training for which the scholarship assistance was received that otherwise meets the requirements of Sec. F(f)(1).

(g) Part-time scholars. Meet the service obligation in this Sec. F, as applied to a part-time scholar, based on the accumulated academic years of training for which the scholarship is received.

(h) Information upon exit. Provide the grantee all requested information necessary for the grantee to meet the exit certification requirements under Sec. E(c).

(i) Information after exit. Within 60 days after exiting the program, and as necessary thereafter for any changes, provide the Department all information the Secretary needs to monitor the scholar's service obligation under this Sec. F, including social security number, address, employment setting, and employment status, via U.S. mail at the following address: Office of Special Education Programs, Research to Practice Division, Service Obligation Coordinator, 400 Maryland Avenue, SW., Potomac Center Plaza, Washington, DC 20202-2600.

(j) Repayment. If not fulfilling the requirements in this Sec. F, subject to the provisions in Sec. G regarding a deferral or exception, repay any scholarship received, plus interest, in an amount proportional to the service obligation not completed as follows:

(1) The Secretary charges the scholar interest on the unpaid balance owed in accordance with 31 U.S.C. 3717.

(2)(i) Interest on the unpaid balance accrues from the date the scholar is determined to have entered repayment status under paragraph (4) of this subsection (j).

(ii) Any accrued interest is capitalized at the time the scholar's repayment schedule is established.

(iii) No interest is charged for the period of time during which repayment has been deferred under Sec. G.

(3) Under the authority of 31 U.S.C. 3717, the Secretary may impose reasonable collection costs.

(4) A scholar enters repayment status on the first day of the first calendar month after the earliest of the following dates, as applicable:

(i) The date the scholar informs the grantee or the Secretary that the scholar does not plan to fulfill the service obligation under the agreement.

(ii) Any date when the scholar's failure to begin or maintain employment makes it impossible for that individual to complete the service obligation within the number of years required in this Sec. F.

(iii) Any date on which the scholar discontinues enrollment in the course of study under Sec. F(a).

(5) The scholar must make payments to the Secretary that cover principal, interest, and collection costs according to a schedule established by the Secretary.

(6) Any amount of the scholarship that has not been repaid pursuant to (1) through (5) of this paragraph will constitute a debt owed to the United States that may be collected by the Secretary in accordance with 34 CFR part 30.

Sec. G. Requirements for obtaining a deferral or exception to performance or repayment under an agreement.

(a) Based upon sufficient evidence to substantiate the grounds, the Secretary may grant an exception to the repayment requirement in Sec. F(j), in whole or part, if the scholar—

(1) Is unable to continue the course of study in Sec. F(j) or perform the service obligation because of a permanent disability; or

(2) Has died.

(b) Based upon sufficient evidence to substantiate the grounds, the Secretary may grant a deferral of the repayment requirement in Sec. F(j) during the time the scholar—

(1) Is engaging in a full-time course of study at an institution of higher education;

(2) Is serving on active duty as a member of the armed services of the United States;

(3) Is serving as a volunteer under the Peace Corps Act; or

(4) Is serving as a full-time volunteer under Title I of the Domestic Volunteer Service Act of 1973.

Waiver of Proposed Rulemaking: Under the Administrative Procedure Act (APA) (5 U.S.C. 553) the Department generally offers interested parties the opportunity to comment on proposed priorities and requirements. Section 681(d) of IDEA makes the public comment requirements of the APA inapplicable to the priority in this notice. With Respect to the Additional Requirements, section 437(d)(1) of the General Education Provisions Act exempts from the APA's notice and comment requirement rules that apply to the first competition under a new or substantially revised program authority. This is the first competition under section 662 of IDEA (the Personnel Development to Improve Services and Results for Children with Disabilities program), which was substantially revised by the Individuals with Disabilities Education Improvement Act of 2004. These Additional Requirements will apply to the FY 2005 grant competition only.

Program Authority: 20 U.S.C. 1462 and 1481.

Applicable Regulations: The Education Department General Administrative Regulations (EDGAR) in 34 CFR parts 74, 75, 77, 79, 80, 81, 82, 84, 85, 86, 97, 98, and 99.

II. Award Information

Type of Award: Discretionary grants.

Estimated Available Funds: $15,000,000.

For funding information regarding each of the specific focus areas of the priority, see the chart in this section of this notice.

Estimated Range of Awards: See chart.

Estimated Average Size of Awards: See chart.

Maximum Awards: See chart.

Estimated Number of Awards: See chart.

Note: The Department is not bound by any estimates in this notice.

Project Period: Up to 48 months.

Personnel Preparation to Improve Services and Results for Children With Disabilities Application Notice for Fiscal Year 2005
CFDA No. and name | Estimated range of awards | Estimated average size of awards | Maximum award (per year)* | Estimated number of awards
84.325K Combination Priority for Personnel Preparation:
Focus Area a: Training of Early Intervention and Early Childhood Personnel | $172,000-$200,000 | $196,250 | $200,000 | 11
Focus Area b: Training of Low-Incidence Personnel | 194,969-200,000 | 196,200 | 200,000 | 23
Focus Area c: Training of High-Incidence Personnel | 163,848-200,000 | 196,840 | 200,000 | 19
Focus Area d: Training Programs for Related Services, Speech/Language, and Adapted Physical Education Personnel | 163,848-200,000 | 196,840 | 200,000 | 9
Focus Area e: Training Programs in Minority Institutions | 186,234-200,000 | 196,450 | 200,000 | 13
*The Secretary does not intend to fund an application that proposes a budget exceeding the maximum award specified for a single budget period of 12 months.
Note: The Department is not bound by any estimates in this notice.

III. Eligibility Information

1. Eligible Applicants: Institutions of higher education.

2. Cost Sharing or Matching: This competition does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.325K.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: March 28, 2005.

Deadline for Transmittal of Applications: May 9, 2005.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: July 8, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2005. The Combined Priority for Personnel Preparation-CFDA Number 84.325K competition is one of the competitions included in this project.

If you choose to submit your application electronically, you must use the Grants.gov Apply site (Grants.gov). Through this site, you will be able to download a copy of the application package, complete it offline, and then upload and submit your application. You may not e-mail an electronic copy of a grant application to us. We request your participation in Grants.gov.

You may access the electronic grant application for the Combined Priority for Personnel Preparation-CFDA Number 84.325K competition at: http://www.grants.gov. You must search for the downloadable application package for this program by the CFDA number. Do not include the CFDA number's alpha suffix in your search. Please note the following:

• Your participation in Grants.gov is voluntary.

• When you enter the Grants.gov site, you will find information about submitting an application electronically through the site, as well as the hours of operation.

• Applications received by Grants.gov are time and date stamped. Your application must be fully uploaded and submitted with a date/time received by the Grants.gov system no later than 4:30 p.m., Washington, DC time, on the application deadline date. We will not consider your application if it was received by the Grants.gov system later than 4:30 p.m. on the application deadline date. When we retrieve your application from Grants.gov, we will notify you if we are rejecting your application because it was submitted after 4:30 p.m. on the application deadline date.

• If you experience technical difficulties on the application deadline date and are unable to meet the 4:30 p.m., Washington, DC time, deadline, print out your application and follow the instructions in this notice for the submission of paper applications by mail or hand delivery.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that your application is submitted timely to the Grants.gov system.

• To use Grants.gov, you, as the applicant, must have a D-U-N-S Number and register in the Central Contractor Registry (CCR). You should allow a minimum of five business days to complete the CCR registration.

• You will not receive additional point value because you submit your application in electronic format, nor will we penalize you if you submit your application in paper format.

• You may submit all documents electronically, including all information typically included on the Application for Federal Education Assistance (ED 424), Budget Information—Non-Construction Programs (ED 524), and all necessary assurances and certifications. Any narrative sections of your application should be attached as files in a .DOC (document), .RTF (rich text) or .PDF (Portable Document) format.

• Your electronic application must comply with any page limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.325K), 400 Maryland Avenue, SW., Washington, DC 20202-4260;

or

By mail through a commercial carrier: U.S. Department of Education, Application Control Center “ Stop 4260, Attention: (CFDA Number 84.325K), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office. c. Submission of Paper Applications by Hand Delivery.

If you submit your application in paper format by hand delivery, you (or a courier service) must deliver the original and two copies of your application by hand, on or before the application deadline date, to the Department at the following address: U.S. Department of Education, Application Control Center, Attention: (CFDA Number 84.325K), 550 12th Street, SW., Room 7041, Potomac Center Plaza, Washington, DC 20202-4260.

The Application Control Center accepts hand deliveries daily between 8:00 a.m. and 4:30 p.m., Washington, DC time, except Saturdays, Sundays and Federal holidays.

Note for Mail or Hand Delivery of Paper Applications: If you mail or hand deliver your application to the Department:

(1) You must indicate on the envelope and “ if not provided by the Department “ in Item 4 of the Application for Federal Education Assistance (ED 424) the CFDA number “ and suffix letter, if any “ of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 of EDGAR and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary priorities, applications may be separated into two or more groups and ranked and selected for funding within the specific group. This procedure will ensure the availability of a much larger group of reviewers without conflicts of interest. It also will increase the quality, independence and fairness of the review process and permit panel members to review applications under discretionary priorities for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. In addition, to satisfy the requirements of the priority in this notice, you must submit annual data on each scholar who receives grant support through this program.

4. Performance Measures: Under the Government Performance and Results Act (GPRA), the Department has established a set of performance measures that are designed to yield information on the effectiveness of the Personnel Preparation program. These measures include the extent to which scholars are successfully completing their program and the extent to which they are employed in the area(s) trained upon program completion.

If funded, applicants will be required to collect and report data on grant-supported students through the PPD Web site at http://www.oespppd.org (see paragraph (g) under the Absolute Priority section of this notice).

Beyond the performance measures specifically described in this notice, the Department is also currently developing measures that will be designed to yield information on various aspects of program quality (e.g., the extent to which the curricula of training programs funded under this competition reflect the current knowledge base on effective practices; and the extent to which program graduates maintain employment for three or more years in the area(s) for which they were trained). Grantees will be asked to participate in assessing and providing information on program quality.

We will notify grantees of the performance measures once they are developed.

VII. Agency Contact

FOR FURTHER INFORMATION CONTACT: Maryann McDermott, U.S. Department of Education, 400 Maryland Avenue, SW., room 4062, Potomac Center Plaza, Washington, DC 20202-2600. Telephone: (202) 245-7439.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 3, 2005.
John H. Hager,
Assistant Secretary for Special Education and Rehabilitative Services.

[FR Doc. 05-5957 Filed 3-24-05; 8:45 am]

BILLING CODE 4000-01-P